DEPARTMENT OF HEALTH AND HUMAN SERVICES

[Document Identifier: HHS-OS-0937-0166-60D]

Agency Information Collection Activities; Proposed Collection; Public Comment Request

AGENCY: Office of Population Affairs, Office of the Assistant Secretary for Health, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0937-0166, which expires on October 31, 2015. Prior to submitting the ICR to OMB, OS seeks comments from the public regarding the burden estimate, below, or any other aspect of the ICR.

DATES: Comments on the ICR must be received on or before August 31, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0937-0166-60D for reference.

Information Collection Request Title: HHS 42 CFR part 50, subpart B; Sterilization of Persons in Federally Assisted Family Planning Projects—OMB No. 0937-0166-Extension—OASH, Office of Population Affairs—Office of Family Planning

Abstract: This is a request for extension of a currently approved collection for the disclosure and record-keeping requirements codified at 42 CFR part 50, subpart B (“Sterilization of Persons in Federally Assisted Family Planning Projects”). The consent form solicits information to assure voluntary and informed consent to persons undergoing sterilization in programs of health services which are supported by federal financial assistance administered by the Public Health Service (PHS). Consent forms are signed by individuals undergoing a federally funded sterilization procedure and certified by necessary medical authorities. Forms are incorporated into the patient's medical records and the agency's records. Through periodic site audits and visits, PHS staff review completed consent forms to determine compliance with the regulation. Thus, the purpose of the consent form is twofold. First, it serves as a mechanism to ensure that a person receives information about sterilization and voluntarily consents to the procedure. Second, it facilitates compliance monitoring. The Sterilization Consent Form has been revised to reflect a new expiration date on the Required Consent Form. There are no other revisions to the form.

Likely Respondents: Interested persons who desire to send comments regarding this burden estimate or any other aspect of this collection of information that OS specifically requests comments.

Total Estimated Annualized Burden—Hours
Type of respondent | Information collection | Number of respondents | Number of responses per respondent | Average burden per response | Total hours
Citizens Seeking Sterilization | Information Disclosure for Sterilization Consent Form | 100,000 | 1 | 1 | 100,000
Citizens Seeking Sterilization | Record-keeping for Sterilization Consent Form | 100,000 | 1 | 15/60 | 25,000
Total |  |  |  |  | 125,000

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2015-16256 Filed 7-1-15; 8:45 am]

BILLING CODE 4150-34-P